DEPARTMENT OF THE TREASURY

Office of Foreign Assets Control

31 CFR Part 583

Publication of Global Magnitsky Sanctions Regulations Web General License 7

AGENCY: Office of Foreign Assets Control, Treasury.

ACTION: Publication of Web General License.

SUMMARY: The Department of the Treasury's Office of Foreign Assets Control (OFAC) is publishing one general license (GL) issued pursuant to the Global Magnitsky Sanctions Regulations: GL 7, which was previously made available on OFAC's website.

DATES: GL 7 was issued on March 31, 2023. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: www.treas.gov/ofac.

Background

On March 31, 2023, OFAC issued GL 7 to authorize certain transactions otherwise prohibited by the Global Magnitsky Sanctions Regulations, 31 CFR part 583. This GL was made available on OFAC's website (www.treas.gov/ofac) when it was issued. The text of the GL is provided below.

OFFICE OF FOREIGN ASSETS CONTROL

Global Magnitsky Sanctions Regulations

31 CFR Part 583

GENERAL LICENSE NO. 7

Authorizing Certain Transactions Involving Tabacalera del Este S.A. or Tabacos USA Inc. Pursuant to the Tobacco Master Settlement Agreement

(a) Except as provided in paragraph (b) of this general license, all transactions prohibited by the Global Magnitsky Sanctions Regulations, 31 CFR part 583 (GMSR), involving Tabacalera del Este S.A. (TABESA), Tabacos USA Inc. (Tabacos), or any entity in which TABESA or Tabacos owns, directly or indirectly, individually or in the aggregate, a 50 percent or greater interest, that are ordinarily incident and necessary to payments under the tobacco Master Settlement Agreement (MSA), entered into on November 23, 1998 between certain U.S. state and territory attorneys general and certain tobacco companies, are authorized.

(b) This general license does not authorize any transaction otherwise prohibited by the GMSR, including transactions involving any person blocked pursuant to the GMSR other than the blocked persons described in paragraph (a) of this general license, unless separately authorized.

Andrea M. Gacki,

Director, Office of Foreign Assets Control.

Dated: March 31, 2023.

Andrea M. Gacki,
Director, Office of Foreign Assets Control.

[FR Doc. 2023-10607 Filed 5-16-23; 8:45 am]

BILLING CODE P